ENVIRONMENTAL PROTECTION AGENCY

[EPA-HQ-OAR-2016-0027; FRL-9949-73-OEI]

Agency Information Collection Activities; Submission to OMB for Review and Approval; Comment Request; On-Highway Motorcycle Certification and Compliance Program

AGENCY: Environmental Protection Agency (EPA).

ACTION: Notice.

SUMMARY: The Environmental Protection Agency (EPA) has submitted an information collection request (ICR), “On-Highway Motorcycle Certification and Compliance Program” (EPA ICR No. 2535.01, OMB Control No. 2060-NEW) to the Office of Management and Budget (OMB) for review and approval in accordance with the Paperwork Reduction Act (44 U.S.C. 3501 et seq.). This is a request for approval of a new collection. Public comments were previously requested via the Federal Register (81 FR 7536) on February 12, 2016 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 29, 2016.

ADDRESSES: Submit your comments, referencing Docket ID Number EPA-HQ-OAR-2016-0027 to (1) EPA online using www.regulations.gov (our preferred method), by email to a-and-rdocket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Julian Davis, Compliance Division, Office of Transportation and Air Quality, Environmental Protection Agency, 2000 Traverwood, Ann Arbor MI 48105; telephone number: (734) 214-4029; fax number: (734) 214-4869; email address: davis.julian@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Under the Clean Air Act (42 U.S.C. 7521 et seq.) manufacturers and importers of on-highway motorcycles must have a certificate of conformity issued by EPA covering any vehicle they intend to offer for sale in the United States. A certificate of conformity represents that the respective vehicle conforms to all applicable emissions requirements. In issuing a certificate of conformity, EPA reviews vehicle information and emissions test data to determine if the required testing has been performed and the required emissions levels have been demonstrated. After a certificate of conformity has been issued, the Agency may request additional information to verify that the product continues to meet its certified emissions standards throughout its useful life. An agency may not conduct or sponsor, and a person is not required to respond to, a collection of information unless it displays a currently valid OMB control number. The OMB control numbers for EPA's regulations are listed in 40 CFR part 9. The current ICR for on-highway motorcycle emissions certification and compliance information is set to expire on September 30, 2016. This program was previously included under the current ICR for light-duty vehicle emissions certification and in-use testing [EPA ICR No. 0783.62, OMB Control No. 2060-0104].

Form Numbers:

5900-300 Voluntary Emission Recall Report

5900-301 Emission Defect Information Report

5900-392 Manufacturer Request for Pre-Approval of Using Certified Data In-Lieu of New Tests

5900-394 Manufacturer Actual Model Year Production Volume Reporting Form

5900-395 Highway Motorcycle—Test Vehicle Information

Respondents/affected entities: Entities potentially affected by this action are on-highway motorcycle manufacturers and importers.

Respondent's obligation to respond: Mandatory (40 CFR 86.416-80).

Estimated number of respondents: 74 (total).

Frequency of response: Quarterly and annually.

Total estimated burden: 3,594 hours (per year). Burden is defined at 5 CFR 1320.03(b).

Total estimated cost: $433,598 (per year), includes $113,834 annualized capital and startup costs, $151,150 operation & maintenance costs, and $168,614 in labor costs.

Courtney Kerwin,
Director, Regulatory Support Division.

[FR Doc. 2016-17944 Filed 7-28-16; 8:45 am]

BILLING CODE 6560-50-P